DEPARTMENT OF THE INTERIOR

Bureau of Land Management

[LLORB00000.L10600000.HG0000; HAG 09-0224]

Notice of Public Meeting

AGENCY: Bureau of Land Management, DOI.

ACTION: Notice of public meeting.

SUMMARY: The U.S. Bureau of Land Management (BLM) Burns District has scheduled a public meeting to discuss agency procedures for gathering wild horses and how helicopters and other motorized equipment help the process. The public is encouraged to attend and hear information from BLM about the issue.

DATES: Thursday, August 13, 2009, 5:30 p.m. PDT.

ADDRESSES: Harney County Senior Center, 17 South Alder, in Burns, Oregon.

FOR FURTHER INFORMATION CONTACT: Tara Martinak, (541) 573-4519, or Tara_Martinak@blm.gov or the Burns District Office, 28910 Hwy 20 West, Hines, Oregon 97738.

SUPPLEMENTARY INFORMATION: The BLM estimates about 36,000 wild horses and burros are roaming on BLM-administered rangelands in 10 Western states. Wild horses and burros have virtually no natural predators and their herd sizes can double about every four years. As a result, the agency must remove thousands of animals from the range each year to control herd sizes. The estimated current free-roaming population is 9,400 more than the level that the BLM has determined can exist in balance with other public rangeland resources and uses. Oregon/Washington BLM averages 400-500 horses gathered annually from public lands. For 2009, gathers are tentatively planned for Herd Management Areas within the Burns, Lakeview, and Prineville Districts.

Dated: July 1, 2009.
Approved:
Kenny McDaniel,
District Manager.

[FR Doc. E9-16145 Filed 7-7-09; 8:45 am]

BILLING CODE 4310-33-P